DEPARTMENT OF COMMERCE

Foreign-Trade Zones Board

[Order No. 1515]

Expansion of Foreign-Trade Zone 70, Detroit, Michigan

Pursuant to its authority under the Foreign-Trade Zones Act of June 18, 1934, as amended (19 U.S.C. 81a-81u), the Foreign-Trade Zones Board (the Board) adopts the following Order:

Whereas, the Greater Detroit Foreign Trade Zone, Inc., grantee of Foreign-Trade Zone 70, submitted an application to the Board for authority to expand the zone to include a site at the Willow Run Airport (Site 19) in Ypsilanti, Michigan, within the Detroit Customs and Border Protection port of entry (FTZ Docket 41-2006; filed 10/16/06);

Whereas, notice inviting public comment was given in the Federal Register (71 FR 62080, 10/23/06) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 70 is approved, subject to the FTZ Act and the Board's regulations, including Section 400.28, and subject to the Board's standard 2,000-acre activation limit for the overall zone project.

Signed at Washington, DC, this 22nd day of June 2007.

David M. Spooner,
Assistant Secretary of Commerce for Import Administration, Alternate Chairman, Foreign-Trade Zones Board.
Attest:
Andrew McGilvray,
Executive Secretary.

[FR Doc. E7-12758 Filed 6-29-07; 8:45 am]

BILLING CODE 3510-DS-S